DEPARTMENT OF THE TREASURY

Office of Foreign Assets Control

Additional Designations of Specially Designated Narcotics Traffickers

AGENCY: Office of Foreign Assets Control, Treasury.

ACTION: Notice.

SUMMARY: The Treasury Department's Office of Foreign Assets Control is publishing the names of additional persons designated as specially designated narcotics traffickers and whose property and interests in property have been blocked pursuant to the Foreign Narcotics Kingpin Designation Act and 31 CFR part 598.

DATES: The designations of additional persons whose property and interests in property have been blocked were effective on January 31, 2002.

FOR FURTHER INFORMATION CONTACT: Office of Foreign Assets Control, Department of the Treasury, Washington, DC 20220, tel.: 202/622-2520.

SUPPLEMENTARY INFORMATION:

Electronic and Facsimile Availability

This document is available as an electronic file on The Federal Bulletin Board the day of publication in the Federal Register. By modem, dial 202/512-1387 and type “/GO FAC,” or call 202/512-1530 for disk or paper copies. This file is available for downloading without charge in ASCII and Adobe Acrobat7 readable (*.PDF) formats. For Internet access, the address for use with the World Wide Web (Home Page), Telnet, or FTP protocol is: fedbbs.access.gpo.gov. This document and additional information concerning the programs of the Office of Foreign Assets Control are available for downloading from the Office's Internet Home Page: http://www.treas.gov/ofac, or in fax form through the Office's 24-hour fax-on-demand service: call 202/622-0077 using a fax machine, fax modem, or (within the United States) a touch-tone telephone.

Background

On January 31, 2002, the Treasury Department's Office of Foreign Assets Control (“OFAC”), acting under authority delegated by the Secretary of the Treasury, designated fifteen individuals and twelve entities as significant foreign narcotics traffickers pursuant to subsections 805(b)(2) and (3) of the Foreign Narcotics Kingpin Designation Act, 21 U.S.C. 1904(b)(2) & (3), and § 598.314 of the Foreign Narcotics Kingpin Sanctions Regulations, 31 CFR part 598. On March 7, 2002, OFAC, acting pursuant to § 501.807 of 31 CFR chapter V, rescinded the designation of one entity, DHL Worldwide Express, St. Kitts & Nevis, on the basis of changed circumstances.

OFAC's designations of these additional individuals and entities, as listed below, were effective on January 31, 2002. All property and interests in property owned or controlled by the designated individuals and entities, including but not limited to all accounts, that are or come within the United States or that are or come within the possession or control of U.S. persons, including their overseas branches, are blocked, and all transactions or dealings by U.S. persons or within the United States in property or interests in property of any of those individuals or entities are prohibited, unless authorized by OFAC or exempted by statute.

The list of additional designations follows:

I. INDIVIDUALS

AGUILAR AMAO, Miguel,

Avenida Del Sol 4551, Fraccionamiento La Escondida, Tijuana, Baja California, Mexico;

Avenida Del Sol 4551-2, Fraccionamiento La Escondida 22440, Tijuana, Baja California, Mexico;

c/o DISTRIBUIDORA IMPERIAL DE BAJA CALIFORNIA, S.A. de C.V., Tijuana, Baja California, Mexico;

c/o ADP, S.C., Tijuana, Baja California, Mexico;

DOB 29 Sep 1953; POB Santa Agueda, Baja California Sur, Mexico; Credencial electoral No. 101924629544 (Mexico);

R.F.C. # AUAM-530929 (Mexico)

AGUIRRE GALINDO, Manuel,

c/o COMPLEJO TURISTICO OASIS, S.A. de C.V. Rosarito, Baja California Norte, Mexico;

DOB 2 Nov 1950;

R.F.C. # AUGM-501102-PM3 (Mexico)

ALBA CERDA, Salvador,

Avenida P acifico No. 2834, Seccion Costa de Oro Fraccionamiento Playas de Tijuana 22250, Tijuana, Baja California, Mexico;

Avenida Pacifico No. 2408, Seccion Costa de Oro Fraccionamiento Playas de Tijuana 22250, Tijuana, Baja California, Mexico;

c/o FARMACIA VIDA SUPREMA, S.A. DE C.V., Tijuana, Baja California, Mexico;

c/o DISTRIBUIDORA IMPERIAL DE BAJA CALIFORNIA, S.A. de C.V., Tijuana, Baja California, Mexico;

c/o ADP, S.C., Tijuana, Baja California, Mexico;

DOB 25 Dec 1947; POB Patzcuaro, Michoacan, Mexico;

Credencial electoral No. 125324910951 (Mexico)(individual)

ARELLANO FELIX, Enedina

(a.k.a. ARELLANO FELIX DE TOLEDO, Enedina), c/o FARMACIA VIDA SUPREMA, S.A. DE C.V., Tijuana, Baja California, Mexico;

DOB 12 Apr 1961

FREGOSO AMEZQUITA, Maria Antonieta,

Calle Jerez 538, Fraccionamiento Chapultepec, Tijuana, Baja California, Mexico;

Calle Jerez 552-B, Fraccionamiento Chapultepec, CP 22420, Tijuana, Baja California, Mexico;

c/o ADMINISTRADORA DE INMUEBLES VIDA, S.A. de C.V., Tijuana, Baja California, Mexico;

c/o ADP, S.C., Tijuana, Baja California, Mexico;

c/o FORPRES, S.C., Tijuana, Baja California, Mexico;

c/o ACCESOS ELECTRONICOS, S.A. de C.V., Tijuana, Baja California, Mexico;

c/o OPERADORA VALPARK, S.A. de C.V., Tijuana, Baja California, Mexico;

DOB 29 Oct 1952; POB Guadalajara, Jalisco, Mexico; Driver's License No. 180839 (Mexico);

Credencial electoral No. 088455751391 (Mexico);

R.F.C. # AEL-980417-S51 (Mexico)

GALINDO LEYVA, Esperanza,

c/o COMPLEJO TURISTICO OASIS, S.A. de C.V., Playas de Rosarito, Baja California Norte, Mexico;

DOB 16 Aug 1920;

R.F.C. # GALE-200816-6IA (Mexico)

GIL GARCIA, Jose Alejandro,

Avenida Ejercito Trigarante 7865-J, Infonavit Cuchanilla 22680, Tijuana, Baja California, Mexico;

Avenida Altabrisa 15401, Fraccionamiento Altabrisa, Otay Universidad, Tijuana, Baja California, Mexico;

c/o FARMACIA VIDA SUPREMA, S.A. DE C.V., Tijuana, Baja California, Mexico;

c/o DISTRIBUIDORA IMPERIAL DE BAJA CALIFORNIA, S.A. de C.V., Tijuana, Baja California, Mexico;

c/o ADMINISTRADORA DE INMUEBLES VIDA, S.A. de C.V., Tijuana, Baja California, Mexico;

c/o ADP, S.C., Tijuana, Baja California, Mexico;

DOB 22 Jan 1952; POB Culiacan, Sinaloa, Mexico;

Credencial electoral No. 103624690069 (Mexico);

R.F.C. # GIGA-520122 (Mexico)(individual)

HERNANDEZ PULIDO, Maria Elda,

Calle Juan de Dios Peza 1015, Colonia Mexico 22150, Tijuana, Baja California, Mexico;

c/o FARMACIA VIDA SUPREMA, S.A. DE C.V., Tijuana, Baja California, Mexico;

c/o DISTRIBUIDORA IMPERIAL DE BAJA CALIFORNIA, S.A. de C.V., Tijuana, Baja California, Mexico;

DOB 18 Aug 1971; POB Baja California Norte, Mexico MATTHEW, Karen,

c/o FREIGHT MOVERS INTERNATIONAL, Basseterre, St. Kitts & Nevis, West Indies;

DOB 27 Jan 1964; POB St. Vincent & Grenadines

MIJARES TRANCOSO, Gilberto,

Calle Luis Echeverria 6329-B, Infonavit Presidentes, Tijuana, Baja California, Mexico; P.O. Box 43440, San Ysidro, California 92173, U.S.A.;

c/o DISTRIBUIDORA IMPERIAL DE BAJA CALIFORNIA, S.A. de C.V., Tijuana, Baja California, Mexico;

c/o ADP, S.C., Tijuana, Baja California, Mexico;

DOB 4 Feb 1951; POB Vicente Guerrero, Durango, Mexico;

Driver's License No. 210082884 (Mexico); Passport No. ASDI1418 (Mexico)

MORENO MEDINA, Luis Ignacio,

Calle Guadalupe Victoria 6, Colonia Lomas Hipodromo, Tijuana, Baja California, Mexico;

Calle Guadalupe Victoria 9, Colonia Lomas Hipodromo, Tijuana, Baja California, Mexico;

Avenida David Alfaro Siqueiros 2789-102, Colonia Zona Rio, Tijuana, Baja California, Mexico;

Avenida de las Americas 3048, Fraccionamiento El Paraiso, Tijuana, Baja California, Mexico;

c/o FARMACIA VIDA SUPREMA, S.A. DE C.V., Tijuana, Baja California, Mexico;

c/o DISTRIBUIDORA IMPERIAL DE BAJA CALIFORNIA, S.A. de C.V., Tijuana, Baja California, Mexico;

c/o ADMINISTRADORA DE INMUEBLES VIDA, S.A. de C.V., Tijuana, Baja California, Mexico;

c/o ADP, S.C., Tijuana, Baja California, Mexico;

c/o FORPRES, S.C., Tijuana, Baja California, Mexico;

c/o ACCESOS ELECTRONICOS, S.A. de C.V., Tijuana, Baja California, Mexico;

c/o OPERADORA VALPARK, S.A. de C.V., Tijuana, Baja California, Mexico;

c/o VALPARK, S.A. de C.V., Tijuana, Baja California, Mexico;

c/o GEX EXPLORE, S. de R.L. de C.V., Tijuana, Baja California, Mexico;

DOB 26 May 1953; POB Distrito Federal, Mexico;

Passport No. 96020025125 (Mexico), Passport No. ATIJ07154 (Mexico);

R.F.C. # MOML-530526-ED4 (Mexico)

OROPEZA MEDRANO, Francisco Javier,

Avenida Los Reyes 18108-D, Fraccionamiento Villa de Baja California 22684, Tijuana, Baja California, Mexico;

c/o FARMACIA VIDA SUPREMA, S.A. DE C.V., Tijuana, Baja California, Mexico;

DOB 23 Feb 1968; POB Coahuila, Mexico

OROZCO CARDENAS, Adrian,

Privada Colonia del Valle 7001, Fraccionamiento Residencial Agua Caliente, Tijuana, Baja California, Mexico;

Calle Circunvalacion Sur 273-5, Colonia Las Fuentes 45070, Zapopan, Jalisco, Mexico;

c/o FARMACIA VIDA SUPREMA, S.A. DE C.V., Tijuana, Baja California, Mexico;

c/o DISTRIBUIDORA IMPERIAL DE BAJA CALIFORNIA, S.A. de C.V., Tijuana, Baja California, Mexico;

c/o ADMINISTRADORA DE INMUEBLES VIDA, S.A. de C.V., Tijuana, Baja California, Mexico;

c/o ADP, S.C., Tijuana, Baja California, Mexico;

c/o FORPRES, S.C., Tijuana, Baja California, Mexico;

DOB 14 Sept 1953, POB Distrito Federal, Mexico

RAMIREZ AGUIRRE, Sergio Humberto,

c/o FARMACIA VIDA SUPREMA, S.A. DE C.V., Tijuana, Baja California, Mexico;

c/o DISTRIBUIDORA IMPERIAL DE BAJA CALIFORNIA, S.A. de C.V., Tijuana, Baja California, Mexico;

c/o ADMINISTRADORA DE INMUEBLES VIDA, S.A. de C.V., Tijuana, Baja California, Mexico;

DOB 22 Nov 1951

TOLEDO CARREJO, Luis Raul,

Calle De Los Olivos 10549, Colonia Jardines de Chapultepec, Tijuana, Baja California, Mexico;

Ave. Xavier Villaurrutia 9950, Colonia Zona Urbana Rio, Tijuana, Baja California, Mexico;

Ave. Queretaro 2984, Colonia Francisco I. Madero, Tijuana, Baja California, Mexico;

c/o FARMACIA VIDA SUPREMA, S.A. DE C.V., Tijuana, Baja California, Mexico;

c/o ADMINISTRADORA DE IMUEBLES VIDA, S.A. DE C.V., Tijuana, Baja California, Mexico;

c/o DISTRIBUIDORA IMPERIAL DE BAJA CALIFORNIA, S.A. de C.V., Tijuana, Baja California, Mexico;

DOB 30 Jan 1959; POB Guadalajara, Jalisco, Mexico

II. ENTITIES

ACCESOS ELECTRONICOS, S.A. de C.V.,

Blvd. Cuauhtemoc 1711, Oficina 305, Colonia Zona Rio, Tijuana, Baja California, Mexico;

Avenida Cuauhtemoc 1209, CP 22290, Colonia Zona Rio, Tijuana, Baja California, Mexico;

David Alfaro 25, CP 22320, Tijuana, Baja California, Mexico

ADMINISTRADORA DE INMUEBLES VIDA, S.A. de C.V.,

Blvd. Agua Caliente 1381, Colonia Revolucion, Tijuana, Baja California, Mexico

ADP, S.C.,

Tijuana, Baja California, Mexico

COMPLEJO TURISTICO OASIS, S.A. de C.V.

(a.k.a. OASIS BEACH RESORT & CONVENTION CENTER), Km 25 Carr. Tijuana-Ensenada, Colonia Leyes de Reforma,

CP 22710, Playas de Rosarito, Baja California Norte, Mexico;

R.F.C. # CTO-880909-R38 (Mexico)

DISTRIBUIDORA IMPERIAL DE BAJA CALIFORNIA, S.A. de C.V.

(a.k.a. DISTRIBUIDORA IMPERIAL, a.k.a. DIBC), Blvd. Agua Caliente 1381, Colonia Revolucion, Tijuana, Baja California, Mexico;

Avenida Rio Nazas 10202, Tijuana, Baja California, Mexico;

Heroes de Nacozari 3213 Colonia Maya, Culiacan, Sinaloa, Mexico;

Lerdo de Tejada 1879 Sector Juarez, Guadalajara, Jalisco, Mexico;

Ramon Morales No. 732 Colonia El Mirador, Guadalajara, Jalisco, Mexico;

Rio Balsas 1579 Los Nogales, Ciudad Juarez, Chihuahua, Mexico;

Luz Savinon 718-C Colonia del Valle, Mexico City, Distrito Federal, Mexico;

P.O. Box 434440, San Ysidro, California 92173, U.S.A.

R.F.C. # DIB-771110-HQ1 (Mexico)

FARMACIA VIDA SUPREMA, S.A. de C.V.

(a.k.a. FARMACIAS VIDA, a.k.a. FARMACIA VIDA), Blvd. Agua Caliente 1381, Colonia Revolucion, Tijuana, Baja California, Mexico;

Avenida Constitucion No. 1300,Tijuana, Baja California, Mexico;

Avenida Negrete No. 1200, Tijuana, Baja California, Mexico;

Avenida Segunda No. 1702, Tijuana, Baja California, Mexico;

Avenida 16 de Septiembre No. 1100, Tijuana, Baja California, Mexico;

Calle 4ta. 1339 y “G” Tijuana, Baja California, Mexico;

Blvd. D. Ordaz No. 700-316, Tijuana, Baja California, Mexico;

Avenida Benito Juarez No. 16-2, Rosarito, Baja California, Mexico;

Avenida Las Americas, Int. Casa Ley, Tijuana, Baja California;

Avenida Constitucion y 10ma., Tijuana, Baja California, Mexico;

Avenida Constitucion 823, Tijuana, Baja California, Mexico;

Calle Benito Juarez 1941, Tijuana, Baja California, Mexico;

Calle 4ta. Y Nin~os Heroes 1802, Tijuana, Baja California, Mexico;

Calle Benito Juarez 1890-A, Tijuana, Baja California, Mexico;

Blvd. Benito Juarez 20000, Rosarito, Baja California, Mexico;

Blvd. Diaz Ordaz 915, La Mesa, Tijuana, Baja California, Mexico;

Blvd. Fundadores 8417, Fraccionamiento El Rubi, Tijuana, Baja California, Mexico;

Avenida Tecnologico 15300-308, Centro Comercial Otay Universidad Tijuana, Baja California, Mexico;

Avenida Revolucion 651, Zona Centro, Tijuana, Baja California, Mexico;

Blvd. Sanchez Taboada 4002, Zona Rio, Tijuana, Baja California, Mexico;

Paseo Estrella del Mar 1075-B, Placita Coronado, Playas de Tijuana, Baja California, Mexico;

Avenida Jose Lopez Portillo 131-B, Modulos Otay Tijuana, Baja California, Mexico;

Avenida Braulio Maldonado No. 1409-C, Local 3, Fraccionamiento Soler, Tijuana, Baja California, Mexico;

Toribio Ortega No. 6072-1 Colonia Fco. Villa, Tijuana, Baja California, Mexico;

Blvd. Diaz Ordaz No. 1159-101, Tijuana, Baja California, Mexico;

Plaza del Norte, M. Matamoros No. 10402, Frac. M. Matamoros, Tijuana, Baja California, Mexico;

Calle Carrillo Puerto (3ra.) No. 1434-131, Tijuana, Baja California, Mexico;

Blvd. Ejido Matamoros No. 402-1 Lomas Granjas la Española, Tijuana, Baja California, Mexico;

Calz. Cucapah 20665-1B Colonia Buenos Aires Norte, Tijuana, Baja California, Mexico;

R.F.C. # FVS-870610-LX3 (Mexico)

FORPRES, S.C.,

Tijuana, Baja California, Mexico

FREIGHT MOVERS INTERNATIONAL,

Airport Road, Basseterre, St. Kitts & Nevis, West Indies;

Church Street, Basseterre, St. Kitts & Nevis, West Indies

GEX EXPLORE S. de R.L. de C.V.,

Avenida David Alfaro Siqueiros 2789-102, Colonia Zona Rio, Tijuana, Baja California, Mexico;

Avenida David Alfaro 25, CP 22320, Tijuana, Baja California, Mexico;

Calle Nezahualcoyotyl No. 1660, CP 22320, Colonia Zona Rio, Tijuana, Baja California, Mexico

OPERADORA VALPARK, S.A. de C.V.,

Avenida Cuauhtemoc 1711, Ofc. 305A, Zona Rio, Tijuana, Baja California, Mexico;

Calle Netzahuacoyotl y Paseo Centenario, Tijuana, Baja California, Mexico

VALPARK, S.A. de C.V.,

Avenida David Alfaro Siquieiros 2789, Ofc. 201A, Colonia Zona Rio, Tijuana, Baja California, Mexico;

Paseo de los Heroes y Sanchez Taboada, CP 22320, Tijuana, Baja California, Mexico

Dated: May 8, 2002.
R. Richard Newcomb,
Director, Office of Foreign Assets Control.
Approved: May 9, 2002.
Kenneth E. Lawson,
Assistant Secretary (Enforcement), Department of the Treasury.

[FR Doc. 02-13426 Filed 5-24-02; 2:33 pm]

BILLING CODE 4810-25-P